DEPARTMENT OF THE TREASURY

Agency Information Collection Activities; Submission for OMB Review; Comment Request; Return of Excise Taxes Related to Employee Benefit Plans and Application for Automatic Extension of Time To File an Exempt Organization Return

AGENCY: Departmental Offices, U.S. Department of the Treasury.

ACTION: Notice.

SUMMARY: The Internal Revenue Service (IRS), as part of its continuing effort to reduce paperwork and respondent burden, invites the general public and other Federal agencies to take this opportunity to comment on information collections, as required by the Paperwork Reduction Act of 1995. The IRS is soliciting comments concerning the Return of Excise Taxes Related to Employee Benefit Plans and Application for Automatic Extension of Time to File an Exempt Organization Return.

DATES: Comments should be received on or before April 13, 2023 to be assured of consideration.

ADDRESSES: Written comments and recommendations for the proposed information collection should be sent within 30 days of publication of this notice to www.reginfo.gov/public/do/PRAMain. Find this particular information collection by selecting “Currently under 30-day Review—Open for Public Comments” or by using the search function. Copies of the submissions may be obtained from Melody Braswell by emailing PRA@treasury.gov, calling (202) 622-1035, or viewing the entire information collection request at www.reginfo.gov.

SUPPLEMENTARY INFORMATION:

Internal Revenue Service (IRS)

Title: Return of Excise Taxes Related to Employee Benefit Plans and Application for Automatic Extension of Time to File an Exempt Organization Return.

OMB Control Number: 1545-0575.

Form Number: 5330 and 8868.

Abstract: Internal Revenue Code sections 4965, 4971, 4972, 4973(a)(3), 4975, 4976, 4977, 4978, 4979, 4979A, 4980 and 4980F impose various excise taxes in connection with employee benefit plans. Form 5330 is used to compute and collect these taxes.

Current Actions: The Form 8868 will be revised to allow extensions for Form 5330—Return of Excise Taxes Related to Employee Benefit Plans. Form 8868 will only allow for the extension to file, and will not extend the payment of the excise tax.

The Form 8868 burden attributed to pension plans will be captured under OMB Control Number 1545-0575.

Type of Review: Revision of a currently approved collection.

Affected Public: Business or other for profit organizations, individuals and households, not-for profit institutions, and farms.

Estimated Number of Respondents: 26,460.

Estimated Number of Responses per Respondent: 1.

Estimated Number of Annual Responses: 26,460.

Estimated Total Annual Burden Hours: 1,255,149.

Authority: 44 U.S.C. 3501 et seq.

Melody Braswell,
Treasury PRA Clearance Officer.

[FR Doc. 2023-05115 Filed 3-13-23; 8:45 am]

BILLING CODE 4830-01-P